SECURITIES AND EXCHANGE COMMISSION

Sunshine Act Meetings

Notice is hereby given, pursuant to the provisions of the Government in the Sunshine Act, Public Law 94-409, that the Securities and Exchange Commission will hold the following meetings during the week of November 14, 2005:

An Open Meeting will be held on Monday, November 14, 2005 at 11 a.m. in Room 10800, and Closed Meetings will be held on Tuesday, November 15, 2005 at 3 p.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), 9(ii) and (10) permit consideration of the scheduled matters at the Closed Meetings.

Commissioner Campos, as duty officer, voted to consider the items listed for the closed meeting in closed sessions and that no earlier notice thereof was possible.

The subject matter of the Open Meeting scheduled for Monday, November 14, 2005 will be:

The Commission will hear oral argument on an appeal by the Division of Enforcement from the decision of an administrative law judge. The law judge dismissed the Division's charges against William Kissinger, who was formerly a registered representative and office of supervisory jurisdiction principal of registered broker-dealer IFG Network Securities, Inc. (“IFG”), and who was associated with Kissinger Advisory, formerly a registered investment adviser. The Division alleged that Kissinger violated section 17(a) of the Securities Act of 1933, section 10(b) of the Securities Exchange Act of 1934 and Rule 10b-5 thereunder, and that he aided and abetted Kissinger Advisory's violations of Sections 206(1) and 206(2) of the Investment Advisers Act of 1940. The Division maintains that Kissinger failed to disclose material information in connection with his sale of Class B shares of certain mutual funds to six customers in 1999 and 2000. The law judge also dismissed the Division's charges that IFG and David Ledbetter, IFG's president from 1989 to 2000, had failed reasonably to supervise Kissinger with a view to preventing his violations of the antifraud provisions, as required by Sections 15(b)(4)(E) and 15(b)(6) of the Exchange Act.

Among the issues likely to be argued are whether Kissinger violated the antifraud provisions of the federal securities laws, whether IFG and Ledbetter failed reasonably to supervise Kissinger and, if violations are found, whether it is in the public interest to impose sanctions.

The subject matter of the Closed Meeting scheduled for Tuesday, November 15, 2005 will be:

Report of an investigation.

At times, changes in Commission priorities require alterations in the scheduling of meeting items.

For further information and to ascertain what, if any, matters have been added, deleted or postponed, please contact:

The Office of the Secretary at (202) 551-5400.

Dated: November 9, 2005.
Jonathan G. Katz,
Secretary.

[FR Doc. 05-22658 Filed 11-9-05; 4:29 pm]

BILLING CODE 8010-01-P